DEPARTMENT OF AGRICULTURE

Agricultural Marketing Service

[Doc. No. AMS-SC-25-0037]

Sweet Onions Grown in the Walla Walla Valley of Southeast Washington and Northeast Oregon; Continuance Referendum

AGENCY: Agricultural Marketing Service, USDA.

ACTION: Referendum order.

SUMMARY: This document directs that a referendum be conducted among eligible Walla Walla sweet onion producers to determine whether they favor continuance of the marketing order regulating the handling of sweet onions grown in the Walla Walla Valley of southeast Washington and northeast Oregon.

DATES: The referendum will be conducted from January 12 through January 30, 2026. Only current Walla Walla sweet onion producers who have grown onions within the designated production area during the period June 1, 2024, through May 31, 2025, are eligible to vote in this referendum.

ADDRESSES: Copies of the marketing order may be obtained from the office of the referendum agents at 1220 SW 3rd Avenue, Suite 305, Portland, Oregon 97204; telephone: (503) 326-2724; or from the Docket Clerk, Market Development Division, Specialty Crops Program, AMS, USDA, 1400 Independence Avenue SW, STOP 0237, Washington, DC 20250-0237; telephone: (202) 720-2491; or on the internet https://www.ecfr.gov/current/title-7/subtitle-B/chapter-IX/part-956.

FOR FURTHER INFORMATION CONTACT: Kelsey Dugan, Marketing Specialist, or Barry Broadbent, Branch Chief, Northwest Region Branch, Market Development Division, Specialty Crops Program, AMS, USDA, 1220 SW 3rd Avenue, Suite 305, Portland, Oregon 97204; telephone: (503) 326-2724; or email: Kelsey.Dugan@usda.gov or Barry.Broadbent@usda.gov.

SUPPLEMENTARY INFORMATION: Pursuant to Marketing Order No. 956, as amended (7 CFR part 956), hereinafter referred to as the “Order,” and the applicable provisions of the Agricultural Marketing Agreement Act of 1937, as amended (7 U.S.C. 601-674), hereinafter referred to as the “Act,” it is hereby directed that a referendum be conducted to ascertain whether continuance of the Order is favored by sweet onion producers in the Walla Walla Valley of southeast Washington and northeast Oregon. The referendum will be conducted from January 12 through January 30, 2026, among Walla Walla sweet onion producers in the production area. Only current Walla Walla sweet onion producers that were engaged in the production of Walla Walla sweet onions during the period of June 1, 2024, through May 31, 2025, may participate in the continuance referendum.

USDA has determined that continuance referenda are an effective means for determining whether producers favor the continuation of marketing order programs. USDA would consider termination of the Order if less than two-thirds of the producers voting in the referendum, or producers of less than two-thirds of the volume represented in the referendum, favor continuance. In evaluating the merits of continuance versus termination, USDA will not exclusively consider the results of the continuance referendum. USDA will also consider all other relevant information concerning the operation of the Order and the relative benefits and costs to producers, handlers, and consumers to determine whether continued operation of the Order would tend to effectuate the declared policy of the Act.

In accordance with the Paperwork Reduction Act of 1995 (44 U.S.C. chapter 35), the ballot materials used in the referendum have been approved by the Office of Management and Budget (OMB) and have been assigned OMB No. 0581-0178, Vegetable and Specialty Crops. It has been estimated that it will take an average of 20 minutes for each of the approximately 11 Walla Walla sweet onion producers to cast a ballot. Participation is voluntary. Ballots postmarked after January 30, 2026, will not be included in the vote tabulation.

Kelsey Dugan and Barry Broadbent of the Northwest Region Branch, Market Development Division, Specialty Crops Program, AMS, USDA, are hereby designated as the referendum agents of the Secretary of Agriculture to conduct this referendum. The procedure applicable to the referendum shall be the “Procedure for the Conduct of Referenda in Connection with Marketing Orders for Fruits, Vegetables, and Nuts Pursuant to the Agricultural Marketing Agreement Act of 1937, as Amended” (7 CFR 900.400 et seq.).

Ballots will be mailed to all Walla Walla sweet onion producers of record and may also be obtained from the referendum agents or their appointees.

Authority: 7 U.S.C. 601-674.

Erin Morris,
Administrator, Agricultural Marketing Service.

[FR Doc. 2025-22563 Filed 12-10-25; 8:45 am]

BILLING CODE P